DEPARTMENT OF THE TREASURY

Bureau of Engraving and Printing

Privacy Act of 1974, as Amended

AGENCY: Bureau of Engraving and Printing, Treasury.

ACTION: Notice of proposed Privacy Act systems of records.

SUMMARY: The Treasury Department, Bureau of Engraving and Printing, gives notice of a proposed addition to their systems of records which are subject to the Privacy Act of 1974, as amended, 5 U.S.C. 552a).

DATES: Comments must be received no later than September 24, 2010. This new system of records will be effective October 4, 2010, unless comments are received which result in a contrary determination.

ADDRESSES: Comments may be submitted to the Privacy and Civil Liberties Officer, Bureau of Engraving and Printing, 14th and C Streets, SW., Washington, DC 20228. Comments will be available to the public upon request. The Department will make such comments available for public inspection and copying at BEP, Room 419-A, Bureau of Engraving and Printing, Washington, DC 20228, on official business days between the hours of 10 a.m. and 5 p.m. Eastern Time. You can make an appointment to inspect comments by telephoning 202-874-2500. All comments, including attachments and other supporting materials, received are part of the public record and subject to public disclosure. You should submit only information that you wish to make available publicly.

FOR FURTHER INFORMATION CONTACT: James M. Braun, Privacy and Civil Liberties Officer, Bureau of Engraving and Printing, (202) 874-3733.

SUPPLEMENTARY INFORMATION: The Bureau of Engraving and Printing is establishing a system of records for the purpose of providing the Office of Security a management system that will efficiently maintain proper management and accountability of incident and accident reports that take place at BEP facilities.

The new system of records report, as required by 5 U.S.C. 552a(r) of the Privacy Act, has been submitted to the Committee on Government Reform and Oversight of the House of Representatives, the Committee on Governmental Affairs of the Senate, and the Office of Management and Budget, pursuant to Appendix I to OMB Circular A-130, Federal Agency Responsibilities for Maintaining Records About Individuals, dated February 8, 1996.

The system notice is published in its entirety below.

Dated: August 10, 2010.
Melissa Hartman,
Acting Deputy Assistant Secretary for Privacy, Transparency, and Records.

Treasury/BEP 048

System Name:

Electronic Police Operations Command Reporting System (EPOCRS)—Treasury/BEP.

System Location:

Bureau of Engraving and Printing, Eastern Currency Facility, 14th and C Streets, SW., Washington, DC, 20228 and Bureau of Engraving and Printing, Western Currency Facility, 9000 Blue Mound Road, Fort Worth, Texas 76131.

Categories of Individuals Covered by the System:

Bureau of Engraving and Printing employees (BEP) (Washington, DC and Fort Worth ,Texas), employees of other U.S. government agencies, contractors, service company employees, and visitors who have provided information to BEP police officers relating to an incident or accident at a BEP facility.

Categories of Records in the System:

The information that will be maintained in this system includes electronic records of criminal/administrative incidents and/or general complaints/concerns reported to the BEP Police Services Division by Bureau employees that require investigation, response, and reporting for purposes of administrative processing activity at the agency. Information that will be collected and maintained includes personal information such as names, addresses, telephone number, and/or other identifiers, dates of birth, property information, such as vehicular data, brand or model identifiers, notification information, narratives, voluntary statements, images, witnesses, and locations of the incident(s).

Authority for Maintenance of the System:

5 U.S.C. 301, 5 U.S.C. 552(a)b, 31 U.S.C. 321, 40 U.S.C. 1315(b)(2) (a-c).

Purpose:

The purpose of the system is to establish an electronic database for records regarding investigation activity that directly or indirectly impacts BEP persons and property. Records are of an administrative and/or investigative nature involving the BEP.

Routine Uses of Records Maintained in the System, including Categories of Users and the Purposes for Such Uses:

These records may be used to disclose information to:

(1) Appropriate Federal, state, local agencies responsible for investigating or prosecuting the violation of, or for enforcing or implementing, a statute, rule, regulation, order, or license, where the disclosing agency becomes aware of a potential violation of civil or criminal law or regulation;

(2) A court, magistrate, or administrative tribunal, in the course of presenting evidence, including disclosures to opposing counsel or witnesses, for the purpose of civil discovery, litigation, or settlement negotiations or in response to a court order, where relevant or potentially relevant to a proceeding, or in connection with criminal law proceedings.

(3) A congressional office in response to an inquiry made at the request of the individual to whom the record pertains;

(4) Representatives of the National Archives and Records Administration (NARA) who are conducting records management inspections under authority of 44 U.S.C. 2904 and 2906;

(5) The U.S. Department of Justice (“DOJ”) for its use in providing legal advice to the Department or in representing the Department in a proceeding before a court, adjudicative body, or other administrative body before which the Department is authorized to appear, where the use of such information by the DOJ is deemed by the Department to be relevant and necessary to the litigation, and such proceeding names as a party or interests:

(a) The Department or any component thereof;

(b) Any employee of the Department in his or her official capacity;

(c) Any employee of the Department in his or her individual capacity where DOJ has agreed to represent the employee; or

(e) The United States, where the Department determines that litigation is likely to affect the Department or any of its components, and

(6) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records will be stored on electronic media and hardcopy.

Retrievability:

Records are retrieved by name of the individual(s) involved in the incident, date(s) of the incident, and by system generated report numbers.

Safeguards:

Access to records is limited to the Office of Security senior management staff, Police Operations Division staff, Office of Information Technology (IT) staff, IT contractors, and Office of Compliance staff located at the Washington, DC and Fort Worth, Texas facilities. Desktop PCs are password controlled by users.

Retention and Disposal:

Records are to be retained in accordance with the BEP Records Retention and Disposal Schedule as required by the National Archives and Records Administration (NARA).

System Manager(s) and Address:

Manager, Police Operations Division (POD), Office of Security, Eastern Currency Facility, Bureau of Engraving and Printing, 14th and C Streets, SW., Washington, DC. 20228 and Manager, Security Division, Western Currency Facility, Bureau of Engraving and Printing, 9000 Blue Mound Road, Fort Worth, Texas 76131.

Notification Procedure:

Individuals seeking to determine whether this system of records contains information about themselves should address written inquiries to the Privacy Act Officer, Bureau of Engraving and Printing, 14th and C Streets, SW., Room 419-A, Washington, DC 20228.

Record Access Procedure:

See “Notification Procedure.”

Contesting Record Procedure:

See “Notification Procedure.”

Record Source Categories:

The (1) incident, (2) individual(s) directly or indirectly involved, (3) authorized official(s) or legal representative(s) of individual(s), (4) legal representative of firms, company, or agency.

Exemptions Claimed for the System:

None.

[FR Doc. 2010-21132 Filed 8-24-10; 8:45 am]

BILLING CODE 4840-01-P